FEDERAL RESERVE SYSTEM

12 CFR Part 272

[Docket No. R-1059]

Rules of Procedure

AGENCY: Federal Open Market Committee.

ACTION: Final rule; technical amendment.

SUMMARY: The Federal Open Market Committee (“the Committee”) is amending its Rules of Procedure to revise and expand upon the means of communication available to the Secretary of the Committee and the members regarding meetings and proposed actions between meetings. The current rules provide that such communications must be in writing or by telegram. The proposed amendments would delete telegram as an accepted means of communication and would permit communications by telephone, including facsimile transmissions, or electronic means, such as by electronic mail. The option to require written communications would be retained.

DATES: February 9, 2000.

FOR FURTHER INFORMATION CONTACT: Stephen L. Siciliano, Special Assistant to the General Counsel for Administrative Law, Legal Division, Board of Governors of the Federal Reserve System, (202) 452-3920. For the hearing impaired only, Telecommunication Device for the Deaf (TDD), Diane Jenkins (202-452-3544), Board of Governors of the Federal Reserve System, 20th and C Streets, NW, Washington, D.C. 20551.

SUPPLEMENTARY INFORMATION: The rules were last updated in 1979. Since that time, new and reliable, readily available methods of transmittal, such as facsimile and electronic mail, have become available while previously relied on methods, such as the telegram, are no longer used.

The proposed amendments would affect the manner in which the Secretary gives notice to members of the Committee of calls for meetings by the Chairman or requests by members for the calling of a meeting. They would also affect the means by which the Secretary transmits the relevant information and recommendations for an action to modify an outstanding Committee authorization or directive at a time when it is not feasible to call a meeting. The amendments to the rules also would permit a member to communicate with the Secretary by telephone or electronic means to request a meeting, to inform the Secretary when he or she will not be available to attend a meeting, and also to transmit his or her vote on an action proposed between meetings.

Accordingly, the Committee is amending its Rules of Procedure by changing all references to “in writing or by telegram” to “in writing, by telephone, or by electronic means” as the accepted methods of communication.

The amendments adopted by the Committee are rules of procedure. Accordingly, neither 5 U.S.C. 553(b), requiring notice and opportunity for public comment, nor the Congressional Review Act, 5 U.S.C. 801 et seq., applies. In addition, the amendments are technical amendments to update the rules to reflect new methods of communication, and its prompt implementation will improve the Committee's operational efficiency without adversely affecting any other persons. Accordingly, the Committee finds good cause not to delay the effective date of the amendments pursuant to 5 U.S.C. 553(d).

List of Subjects in 12 CFR part 272

Administrative practice and procedure, Federal Open Market Committee, Organization and functions (Government agencies).

For the reasons set out in the preamble, 12 CFR part 272 is amended as set forth below:

PART 272—FEDERAL OPEN MARKET COMMITTEE—RULES OF PROCEDURE

1. The authority citation for part 272 continues to read as follows

Authority: 5 U.S.C. 552

§ 272.3 [Amended]

2. In § 272.3(a) and (b), remove the words “in writing or by telegram” wherever they appear and add in their place, the words “in writing, by telephone, or electronic means.”

§ 272.4 [Amended]

3. Section 272.4(b) is amended by revising the fourth sentence to read as follows: “All communications of recommended actions and votes under this paragraph shall be in writing, by telephone, or electronic means; if the communication is made orally, the Secretary shall cause a written record to be made without delay.”

By order of the Federal Open Market Committee, February 3, 2000.
Donald L. Kohn,
Secretary of the Committee.

[FR Doc. 00-2941 Filed 2-8-00; 8:45 am]

BILLING CODE 6210-01-P